DEPARTMENT OF TRANSPORTATION

[Docket No.: MARAD 2004-17166]

Availability of a Draft Environmental Assessment

AGENCY: Department of Transportation, Maritime Administration.

ACTION: Notice of availability of draft environmental assessment.

SUMMARY: Notice is hereby given that the Maritime Administration (MARAD), of the U.S. Department of Transportation (US DOT) has made available for review and comment to interested parties the draft Environmental Assessment (EA) for the transfer and disposal of approximately nine obsolete vessels from the James River Reserve Fleet (JRRF) to the Able UK facility located in Teeside, United Kingdom. The EA studied potential environmental effects associated with the transfer of the obsolete vessels for disposal. The EA considered potential effects to the natural and manmade environments including: air quality; water quality; geology and soils; coastal resources; terrestrial resources; aquatic resources; navigation; hazardous materials; cultural and historic resources; visual and aesthetic resources, among other topics associated with the proposed action.

DATES: Comments on this EA must be received by March 29, 2004.

FOR FURTHER INFORMATION CONTACT: Deborah Aheron, U.S. DOT, Maritime Administration, 400 7th Street, SW., Washington, DC 20590, Tel: 202-366-8887/Fax: 202-366-6988, e-mail: Deborah.Aheron@marad.dot.gov.

ADDRESSES: Comments may be submitted by hand or by mail to the Docket Clerk, U.S. DOT Dockets, Room PL-401, Department of Transportation, 4000 7th St., SW., Washington, DC 20590-0001. You may also send comments electronically via the Internet at http://dmses.dot.gov/submit/.

SUPPLEMENTARY INFORMATION: Written comments should refer to docket number MARAD 2004-17166. All comments will become part of this docket and will be available for inspection and copying at the above address between 10 a.m. and 5 p.m., E.T., Monday through Friday, except federal holidays. An electronic version of this document and all documents entered into this docket is available on the World Wide Web at http://dms.dot.gov. No comments will be accepted after the cut off date listed in the date section above. All written comments received during this review period will be taken into consideration by MARAD. Copies of the EA are available for public viewing on the MARAD Web site (http://www.marad.dot.gov) and at the following locations: Groninger Library, Army Transportation Center, Bldg. 1313, Ft. Eustis; Grissom Public Library, 366 DeShazor Dr., Newport News; Christopher Newport College Library, 1 University Pl., Newport News; Newport News Public Library, 110 Main St., Newport News; Pearl Bailey Branch Library, 2510 Wickham Ave., Newport News; West Avenue Library, 30th St. & West Ave., Newport News; Hampton Public Library, 4207 Victoria Blvd., Hampton; Hampton University Library, 130 E. Tyler St., Hampton; Thomas Nelson Community College Library, 99 Thomas Nelson Dr., Hampton; Earl Gregg Swem Library, College of William & Mary, Williamsburg; Henry Clay Hofheimer II Library, 1584 Wesleyan Dr., Norfolk; Little Creek Branch Library, 7853 Tarpon Pl., Norfolk; Blyden Branch Library, 879 East Princess Anne Rd., Norfolk; Kirn Memorial Main Library, 301 East City Hall Ave., Norfolk; Old Dominion University Library, 4427 Hampton Blvd., Norfolk; Norfolk State University Library, 700 Park Ave., Norfolk; Larchmont Branch Library, 6525 Hampton Blvd., Norfolk; Janaf Branch Library, 124 Janaf Shopping Center, Norfolk; Pretlow Branch Library, 9640 Granby St., Norfolk; Lafayette Branch Library, 1610 Cromwell Dr., Norfolk; Park Place Branch Library, 620 West 29th St., Norfolk; Van Wyck Branch Library, 1368 DeBree Ave., Norfolk; Virginia Beach Public Library, 4100 Virginia Beach Blvd., Virginia Beach.

(Authority: 49 CFR 1.66)

By Order of the Maritime Administrator.
Dated: February 24, 2004.
Joel C. Richard,
Secretary, Maritime Administration.

[FR Doc. 04-4337 Filed 2-26-04; 8:45 am]

BILLING CODE 4910-81-P